DEPARTMENT OF ENERGY

Fusion Energy Sciences Advisory Committee

AGENCY: Department of Energy, Office of Science.

ACTION: Notice of Open Meeting.

SUMMARY: This notice announces a meeting of the Fusion Energy Sciences Advisory Committee. The Federal Advisory Committee Act (Pub. L. 92-463, 86Stat.770) requires that public notice of these meetings be announced in the Federal Register.

DATES: Thursday, November 6, 2008, 9 a.m. to 6:30 p.m. and Friday, November 7, 2008, 9 a.m. to noon.

ADDRESSES: The Gaithersburg Hilton, 620 Perry Parkway, Gaithersburg, Maryland, 20877, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The Office of Fusion Energy Sciences (OFES) is developing a new strategic plan for the Fusion Energy Sciences (FES) program. The Fusion Energy Sciences Advisory Committee (FESAC) recently completed its report on scientific themes and issues facing the magnetic fusion portion of the FES program. At this meeting, FESAC will hear a final report from its panel that is identifying the scientific themes and issues facing the four major alternate confinement concepts. The output from this panel along with the previous FESAC report on the themes and issues facing the magnetic fusion program will provide a major portion of the information that OFES will use to produce a Strategic Overview Plan. The Committee will also hear a status report from its panel that is identifying the scientific themes and issues facing the high energy density laboratory plasma (HEDLP) program, and other reports as listed in the agenda shown below.

Tentative Agenda

Thursday, November 6, 2008

• Presentation on DOE Perspectives by the Deputy Director for Science Programs.

• Presentation on OFES Perspectives and Plans for Development of Long-Range Strategic Plans including Research Needs Workshops.

• Presentation on the Final Report of the Toroidal Magnetic Alternates Panel.

• Presentation on the status of the HEDLP Panel activities.

• Presentation on ITER Status.

• Presentation by OFES on the Draft Strategic Overview Plan.

• Public Comments.

Friday, November 7, 2008

• Report on Fusion Diagnostics Development Needs.

• Status on the Research on Plasma-Materials Interactions in Fusion.

• Adjourn

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements on the agenda. The Chairperson of the Committee will conduct the meeting to facilitate the orderly conduct of business. Public comment will follow the 10-minute rule.

Minutes: The minutes of the meeting will be available on the U.S. Department of Energy's Office of Fusion Energy Sciences Web site (http://www.science.doe.gov/ofes/).

Issued at Washington, DC, on October 3, 2008.
Rachel Samuel,
Deputy Committee Management Officer.

[FR Doc. E8-24072 Filed 10-8-08; 8:45 am]

BILLING CODE 6450-01-P